DEPARTMENT OF ENERGY

Federal Energy Regulatory Commission

Combined Notice of Filings #1

Take notice that the Commission received the following exempt wholesale generator filings:

Docket Numbers: EG12-100-000.

Applicants: Ri-Corp. Development, Inc.

Description: Notice of Self-Certification of EWG Status of Ri-Corp. Development, Inc.

Filed Date: 8/16/12.

Accession Number: 20120816-5040.

Comments Due: 5 p.m. ET 9/6/12 .

Take notice that the Commission received the following electric rate filings:

Docket Numbers: ER12-1204-001.

Applicants: PJM Interconnection, L.L.C.

Description: Compliance filing per 5/17/2012 Order in ER12-1204 regarding Order 755 to be effective 10/1/2012.

Filed Date: 8/15/12.

Accession Number: 20120815-5104.

Comments Due: 5 p.m. ET 9/5/12 .

Docket Numbers: ER12-1929-001.

Applicants: PJM Interconnection, L.L.C.

Description: Compliance Filing per 7/31/2012 Order in Docket No. ER12-1929 to be effective 8/1/2012.

Filed Date: 8/15/12.

Accession Number: 20120815-5101.

Comments Due: 5 p.m. ET 9/5/12 .

Docket Numbers: ER12-2447-001.

Applicants: Brookfield Smoky Mountain Hydropower LLC.

Description: Amendment of Pending Filing 135 to be effective 10/13/2012.

Filed Date: 8/16/12.

Accession Number: 20120816-5036.

Comments Due: 5 p.m. ET 9/6/12 .

Docket Numbers: ER12-2453-000.

Applicants: Midwest Independent Transmission System Operator, Inc.

Description: SA 2294 Heritage Garden-ATC GIA J060/J061 to be effective 8/17/2012.

Filed Date: 8/16/12.

Accession Number: 20120816-5022.

Comments Due: 5 p.m. ET 9/6/12.

Docket Numbers: ER12-2454-000.

Applicants: San Diego Gas & Electric Company.

Description: San Diego Gas & Electric Company's TO3—Cycle 6 Base Period Cost of Service, Forecast Period Revenues, True-Up Period Adjustment, Retail Rate Design, & CAISO Wholesale High Voltage Transmission Access Charge Components.

Filed Date: 8/15/12.

Accession Number: 20120816-0204.

Comments Due: 5 p.m. ET 9/5/12.

Docket Numbers: ER12-2455-000.

Applicants: Midwest Independent Transmission System Operator, Inc., MidAmerican Energy Company.

Description: SA 2245 MidAm-Lake View WDS to be effective 9/1/2012.

Filed Date: 8/16/12.

Accession Number: 20120816-5024.

Comments Due: 5 p.m. ET 9/6/12.

Docket Numbers: ER12-2456-000.

Applicants: Ri-Corp. Development, Inc.

Description: Notice of Succession to be effective 8/17/2012.

Filed Date: 8/16/12.

Accession Number: 20120816-5035.

Comments Due: 5 p.m. ET 9/6/12 .

Docket Numbers: ER12-2457-000.

Applicants: Alcoa Power Generating Inc.

Description: Tapoco OATT Filing to be effective 8/20/2012.

Filed Date: 8/16/12.

Accession Number: 20120816-5046.

Comments Due: 5 p.m. ET 9/6/12.

Docket Numbers: ER12-2458-000.

Applicants: PacifiCorp.

Description: PAC Energy Construction Agreement to Move Projects into PacifiCorp's BA to be effective 10/16/2012.

Filed Date: 8/16/12.

Accession Number: 20120816-5047.

Comments Due: 5 p.m. ET 9/6/12.

Take notice that the Commission received the following open access transmission tariff filings:

Docket Numbers: OA12-5-000.

Applicants: The City of Lincoln, Nebraska.

Description: Request for continuation of waiver of Standards of Conduct for The City of Lincoln, Nebraska, or in the alternative, request for extension of time to comply with the Standards of Conduct.

Filed Date: 8/15/12.

Accession Number: 20120815-5143.

Comments Due: 5 p.m. ET 9/5/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2012.
Nathaniel J. Davis, Sr.,
Deputy Secretary.

[FR Doc. 2012-21130 Filed 8-27-12; 8:45 am]

BILLING CODE 6717-01-P